COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agencies employing persons who are blind or have other severe disabilities, and deletes service previously furnished by such agencies.

DATES: Comments Must Be Received on or Before: 9/25/2016.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

NSN(s)—Product Name(s):

8465-01-608-7503—Bag, Sleeping, Outer, Extreme Cold Weather (ECW OSB) U.S. Marine Corps, Regular

8465-01-623-2346—Bag, Sleeping, Outer, Extreme Cold Weather (ECW OSB) U.S. Marine Corps, Extra Long

Mandatory Source(s) of Supply: ReadyOne Industries, Inc., El Paso, TX

Mandatory Purchase For: 100% of the requirements of Department of Defense

Contracting Activity: Defense Logistics Agency Troop Support

Distribution: C-List

Product Name(s)—NSN(s):

8465-01-608-7507—Sack, Extreme Cold Weather Compression Stuff Sack, (ECW CSS) U.S. Marine Corps, One size fits all

Mandatory Source(s) of Supply: The Lighthouse for the Blind, Inc., Seattle, WA

Mandatory Purchase For: 50% of the requirement of the Department of Defense

Contracting Activity: Defense Logistics Agency Troop Support

Distribution: C-List

Deletions

The following products and services are proposed for deletion from the Procurement List:

Products

NSN(s)—Product Name(s)

8405-01-540-1280—Trousers, NWU, Men's, Blue Digital Camouflage, X-SMALL X-SHORT

8405-01-540-1318—Trousers, NWU, Men's, Blue Digital Camouflage, X-SMALL SHORT

8405-01-540-1328—Trousers, NWU, Men's, Blue Digital Camouflage, X-SMALL REGULAR

8405-01-540-1339—Trousers, NWU, Men's, Blue Digital Camouflage, X-SMALL LONG

8405-01-540-1350—Trousers, NWU, Men's, Blue Digital Camouflage, SMALL X-SHORT

8405-01-540-1356—Trousers, NWU, Men's, Blue Digital Camouflage, SMALL SHORT

8405-01-540-1363—Trousers, NWU, Men's, Blue Digital Camouflage, SMALL REGULAR

8405-01-540-1375—Trousers, NWU, Men's, Blue Digital Camouflage, SMALL X-LONG

8405-01-540-1430—Trousers, NWU, Men's, Blue Digital Camouflage, SMALL LONG

8405-01-540-1464—Trousers, NWU, Men's, Blue Digital Camouflage, LARGE XX-LONG

8405-01-540-1475—Trousers, NWU, Men's, Blue Digital Camouflage, X-LARGE XX-LONG

8405-01-540-1436—Trousers, NWU, Men's, Blue Digital Camouflage, MEDIUM X-SHORT

8405-01-540-1467—Trousers, NWU, Men's, Blue Digital Camouflage, X-LARGE SHORT:

8405-01-540-1471—Trousers, NWU, Men's, Blue Digital Camouflage, X-LARGE REGULAR

8405-01-540-1446—Trousers, NWU, Men's, Blue Digital Camouflage, MEDIUM SHORT

8405-01-540-1447—Trousers, NWU, Men's, Blue Digital Camouflage, MEDIUM REGULAR

8405-01-540-1450—Trousers, NWU, Men's, Blue Digital Camouflage, MEDIUM LONG

8405-01-540-1451—Trousers, NWU, Men's, Blue Digital Camouflage, MEDIUM X-LONG

8405-01-540-1472—Trousers, NWU, Men's, Blue Digital Camouflage, X-LARGE LONG

8405-01-540-1473—Trousers, NWU, Men's, Blue Digital Camouflage, X-LARGE X-LONG

8405-01-540-1455—Trousers, NWU, Men's, Blue Digital Camouflage, MEDIUM XX-LONG

8405-01-540-1496—Trousers, NWU, Men's, Blue Digital Camouflage, XX-LARGE REGULAR

8405-01-540-1508—Trousers, NWU, Men's, Blue Digital Camouflage, XX-LARGE XX-LONG

8405-01-540-1458—Trousers, NWU, Men's, Blue Digital Camouflage, LARGE SHORT

8405-01-540-1459—Trousers, NWU, Men's, Blue Digital Camouflage, LARGE REGULAR

8405-01-540-1461—Trousers, NWU, Men's, Blue Digital Camouflage, LARGE LONG

8405-01-540-1462—Trousers, NWU, Men's, Blue Digital Camouflage, LARGE X-LONG

8405-01-540-1501—Trousers, NWU, Men's, Blue Digital Camouflage, XX-Large Long

8405-01-540-1506—Trousers, NWU, Men's, Blue Digital Camouflage, XX-Large X-Long

Mandatory Source(s) of Supply: Goodwill Industries of South Florida, Inc., Miami, FL

Contracting Activity: Defense Logistics Agency Troop Support

8405-01-573-8838—Trousers, NWU, Men's, Type II, Desert, X Large Regular

8405-01-573-8898—Trousers, NWU, Men's, Type II, Desert, X Large Long

8405-01-574-6613—Trousers, NWU, Men's, Type III, Woodland, Small Short

8405-01-574-6616—Trousers, NWU, Men's, Type III, Woodland, Small Regular

8405-01-590-7676—Trousers, NWU, Women's, Type II, Desert, 29 X Short

8405-01-590-7835—Trousers, NWU, Women's, Type III, Woodland, 37 Short

8405-01-573-8152—Trousers, NWU, Men's, Type II, Desert, X Small Short

8405-01-573-8399—Trousers, NWU, Men's, Type II, Desert, Medium Regular

8405-01-573-8370—Trousers, NWU, Men's, Type II, Desert, Medium Short

8405-01-573-8362—Trousers, NWU, Men's, Type II, Desert, Medium X Short

8405-01-573-8350—Trousers, NWU, Men's, Type II, Desert, Small Long

8405-01-573-8253—Trousers, NWU, Men's, Type II, Desert, Small X Long

8405-01-573-8244—Trousers, NWU, Men's, Type II, Desert, Small Regular

8405-01-573-8239—Trousers, NWU, Men's, Type II, Desert, Small Short

8405-01-573-8226—Trousers, NWU, Men's, Type II, Desert, Small X Short

8405-01-573-8216—Trousers, NWU, Men's, Type II, Desert, X Small Long

8405-01-573-8170—Trousers, NWU, Men's, Type II, Desert, X Small Regular

8405-01-573-8831—Trousers, NWU, Men's, Type II, Desert, X Large Short

8405-01-573-8443—Trousers, NWU, Men's, Type II, Desert, Large XX Long

8405-01-573-8439—Trousers, NWU, Men's, Type II, Desert, Large X Long

8405-01-573-8432—Trousers, NWU, Men's, Type II, Desert, Large Long

8405-01-573-8426—Trousers, NWU, Men's, Type II, Desert, Large Regular

8405-01-573-8421—Trousers, NWU, Men's, Type II, Desert, Large Short

8405-01-573-8417—Trousers, NWU, Men's, Type II, Desert, Medium XX Long

8405-01-573-8410—Trousers, NWU, Men's, Type II, Desert, Medium X Long

8405-01-573-8404—Trousers, NWU, Men's, Type II, Desert, Medium Long

8405-01-573-9066—Trousers, NWU, Men's, Type II, Desert, XX Large XX Long

8405-01-573-9065—Trousers, NWU, Men's, Type II, Desert, XX Large X Long

8405-01-573-9016—Trousers, NWU, Men's, Type II, Desert, XX Large Long

8405-01-573-9005—Trousers, NWU, Men's, Type II, Desert, XX Large Regular

8405-01-573-8987—Trousers, NWU, Men's, Type II, Desert, X Large XX Long

8405-01-573-8924—Trousers, NWU, Men's, Type II, Desert, X Large X Long

8405-01-573-7890—Trousers, NWU, Men's, Type II, Desert, X Small X Short

8405-01-574-6864—Trousers, NWU, Men's, Type III, Woodland, Medium Regular

8405-01-574-6879—Trousers, NWU, Men's, Type III, Woodland, Medium X Long

8405-01-574-6934—Trousers, NWU, Men's, Type III, Woodland, Large Short

8405-01-574-6948—Trousers, NWU, Men's, Type III, Woodland, Large Long

8405-01-574-7294—Trousers, NWU, Men's, Type III, Woodland, Large XX Long

8405-01-574-7747—Trousers, NWU, Men's, Type III, Woodland, X Large Regular

8405-01-574-8158—Trousers, NWU, Men's, Type III, Woodland, X Large XX Long

8405-01-574-8175—Trousers, NWU, Men's, Type III, Woodland, XX Large Long

8405-01-574-8189—Trousers, NWU, Men's, Type III, Woodland, XX Large XX Long

8405-01-574-6039—Trousers, NWU, Men's, Type III, Woodland, X Small X Short

8405-01-574-6047—Trousers, NWU, Men's, Type III, Woodland, X Small Short

8405-01-574-6588—Trousers, NWU, Men's, Type III, Woodland, X Small Regular

8405-01-574-6593—Trousers, NWU, Men's, Type III, Woodland, X Small Long

8405-01-574-6605—Trousers, NWU, Men's, Type III, Woodland, Small X Short

8405-01-574-6720—Trousers, NWU, Men's, Type III, Woodland, Small X Long

8405-01-574-6836—Trousers, NWU, Men's, Type III, Woodland, Small Long

8405-01-574-6841—Trousers, NWU, Men's, Type III, Woodland, Medium X Short

8405-01-574-6852—Trousers, NWU, Men's, Type III, Woodland, Medium Short

8405-01-574-6868—Trousers, NWU, Men's, Type III, Woodland, Medium Long

8405-01-574-6896—Trousers, NWU, Men's, Type III, Woodland, Medium XX Long

8405-01-574-6944—Trousers, NWU, Men's, Type III, Woodland, Large Regular

8405-01-574-7016—Trousers, NWU, Men's, Type III, Woodland, Large X Long

8405-01-574-7301—Trousers, NWU, Men's, Type III, Woodland, X Large Short

8405-01-574-7750—Trousers, NWU, Men's, Type III, Woodland, X Large Long

8405-01-574-7764—Trousers, NWU, Men's, Type III, Woodland, X Large X Long

8405-01-574-8168—Trousers, NWU, Men's, Type III, Woodland, XX Large Regular

8405-01-574-8184—Trousers, NWU, Men's, Type III, Woodland, XX Large X Long

8405-01-590-7671—Trousers, NWU, Women's, Type II, Desert, 25 X Short

8405-01-590-7672—Trousers, NWU, Women's, Type II, Desert, 25 Short

8405-01-590-7679—Trousers, NWU, Women's, Type II, Desert, 29 Short

8405-01-590-7681—Trousers, NWU, Women's, Type II, Desert, 29 Regular

8405-01-590-7682—Trousers, NWU, Women's, Type II, Desert, 33 X Short

8405-01-590-7699—Trousers, NWU, Women's, Type II, Desert, 33 Short

8405-01-590-7726—Trousers, NWU, Women's, Type II, Desert, 33 Regular

8405-01-590-7747—Trousers, NWU, Women's, Type II, Desert, 37 Short

8405-01-590-7755—Trousers, NWU, Women's, Type II, Desert, 37 Regular

8405-01-590-7795—Trousers, NWU, Women's, Type III, Woodland, 29 X Short

8405-01-590-7771—Trousers, NWU, Women's, Type III, Woodland, 25 X Short

8405-01-590-7775—Trousers, NWU, Women's, Type III, Woodland, 25 Short

8405-01-590-7811—Trousers, NWU, Women's, Type III, Woodland, 29 Short

8405-01-590-7822—Trousers, NWU, Women's, Type III, Woodland, 33 X Short

8405-01-590-7819—Trousers, NWU, Women's, Type III, Woodland, 29 Regular

8405-01-590-7827—Trousers, NWU, Women's, Type III, Woodland, 33 Short

8405-01-590-7832—Trousers, NWU, Women's, Type III, Woodland, 33 Regular

8405-01-590-7837—Trousers, NWU, Women's, Type III, Woodland, 37 Regular

Mandatory Source(s) of Supply: Goodwill Industries of South Florida, Inc., Miami, FL

Contracting Activity: Defense Logistics Agency Troop Support

8405-01-540-1554—Trousers, NWU, Women's, Blue Digital Camouflage, 37 Regular

8405-01-540-1532—Trousers, NWU, Women's, Blue Digital Camouflage, 33 X-Short

8405-01-540-1549—Trousers, NWU, Women's, Blue Digital Camouflage, 37 Short

8405-01-540-1544—Trousers, NWU, Women's, Blue Digital Camouflage, 33 Regular

8405-01-540-1511—Trousers, NWU, Women's, Blue Digital Camouflage, 25 X-Short

8405-01-540-1513—Trousers, NWU, Women's, Blue Digital Camouflage, 25 Short

8405-01-540-1540—Trousers, NWU, Women's, Blue Digital Camouflage, 33 Short

8405-01-540-1527—Trousers, NWU, Women's, Blue Digital Camouflage, 29 Regular

8405-01-540-1522—Trousers, NWU, Women's, Blue Digital Camouflage, 29 Short

8405-01-540-1521—Trousers, NWU, Women's, Blue Digital Camouflage, 29 X-Short

Mandatory Source(s) of Supply: Goodwill Industries of South Florida, Inc., Miami, FL

Contracting Activity: Defense Logistics Agency Troop Support

8405-01-540-1280—Trousers, NWU, Men's, Blue Digital Camouflage, X-Small X-Short

8405-01-540-1318—Trousers, NWU, Men's, Blue Digital Camouflage, X-Small Short

8405-01-540-1328—Trousers, NWU, Men's, Blue Digital Camouflage, X-Small Regular

8405-01-540-1339—Trousers, NWU, Men's, Blue Digital Camouflage, X-Small Long

8405-01-540-1350—Trousers, NWU, Men's, Blue Digital Camouflage, Small X-Short

8405-01-540-1356—Trousers, NWU, Men's, Blue Digital Camouflage, Small Short

8405-01-540-1363—Trousers, NWU, Men's, Blue Digital Camouflage, Small Regular

8405-01-540-1375—Trousers, NWU, Men's, Blue Digital Camouflage, Small X-Long

8405-01-540-1430—Trousers, NWU, Men's, Blue Digital Camouflage, Small Long

8405-01-540-1464—Trousers, NWU, Men's, Blue Digital Camouflage, Large XX-Long

8405-01-540-1475—Trousers, NWU, Men's, Blue Digital Camouflage, X-Large XX-Long

8405-01-540-1436—Trousers, NWU, Men's, Blue Digital Camouflage, Medium X-Short

8405-01-540-1467—Trousers, NWU, Men's, Blue Digital Camouflage, X-Large Short

8405-01-540-1471—Trousers, NWU, Men's, Blue Digital Camouflage, X-Large Regular

8405-01-540-1446—Trousers, NWU, Men's, Blue Digital Camouflage, Medium Short

8405-01-540-1447—Trousers, NWU, Men's, Blue Digital Camouflage, Medium Regular

8405-01-540-1450—Trousers, NWU, Men's, Blue Digital Camouflage, Medium Long

8405-01-540-1451—Trousers, NWU, Men's, Blue Digital Camouflage, Medium X-Long

8405-01-540-1472—Trousers, NWU, Men's, Blue Digital Camouflage, X-Large Long

8405-01-540-1473—Trousers, NWU, Men's, Blue Digital Camouflage, X-Large X-Long

8405-01-540-1455—Trousers, NWU, Men's, Blue Digital Camouflage, Medium XX-Long

8405-01-540-1496—Trousers, NWU, Men's, Blue Digital Camouflage, XX-Large Regular

8405-01-540-1508—Trousers, NWU, Men's, Blue Digital Camouflage, XX-Large XX-Long

8405-01-540-1458—Trousers, NWU, Men's, Blue Digital Camouflage, Large Short

8405-01-540-1459—Trousers, NWU, Men's, Blue Digital Camouflage, Large Regular

8405-01-540-1461—Trousers, NWU, Men's, Blue Digital Camouflage, Large Long

8405-01-540-1462—Trousers, NWU, Men's, Blue Digital Camouflage, Large X-Long

8405-01-540-1501—Trousers, NWU, Men's, Blue Digital Camouflage, XX-Large Long

8405-01-540-1506—Trousers, NWU, Men's, Blue Digital Camouflage, XX-Large X-Long

Mandatory Source(s) of Supply: ReadyOne Industries, Inc., El Paso, TX

Contracting Activity: Defense Logistics Agency Troop Support

8405-01-573-8838—Trousers, NWU, Men's, Type II, Desert, X Large Regular

8405-01-573-8898—Trousers, NWU, Men's, Type II, Desert, X Large Long

8405-01-574-6613—Trousers, NWU, Men's, Type III, Woodland, Small Short

8405-01-574-6616—Trousers, NWU, Men's, Type III, Woodland, Small Regular

8405-01-590-7676—Trousers, NWU, Women's, Type II, Desert, 29 X Short

8405-01-590-7835—Trousers, NWU, Women's, Type III, Woodland, 37 Short

8405-01-573-8152—Trousers, NWU, Men's, Type II, Desert, X Small Short

8405-01-573-8399—Trousers, NWU, Men's, Type II, Desert, Medium Regular

8405-01-573-8370—Trousers, NWU, Men's, Type II, Desert, Medium Short

8405-01-573-8362—Trousers, NWU, Men's, Type II, Desert, Medium X Short

8405-01-573-8350—Trousers, NWU, Men's, Type II, Desert, Small Long

8405-01-573-8253—Trousers, NWU, Men's, Type II, Desert, Small X Long

8405-01-573-8244—Trousers, NWU, Men's, Type II, Desert, Small Regular

8405-01-573-8239—Trousers, NWU, Men's, Type II, Desert, Small Short

8405-01-573-8226—Trousers, NWU, Men's, Type II, Desert, Small X Short

8405-01-573-8216—Trousers, NWU, Men's, Type II, Desert, X Small Long

8405-01-573-8170—Trousers, NWU, Men's, Type II, Desert, X Small Regular

8405-01-573-8831—Trousers, NWU, Men's, Type II, Desert, X Large Short

8405-01-573-8443—Trousers, NWU, Men's, Type II, Desert, Large XX Long

8405-01-573-8439—Trousers, NWU, Men's, Type II, Desert, Large X Long

8405-01-573-8432—Trousers, NWU, Men's, Type II, Desert, Large Long

8405-01-573-8426—Trousers, NWU, Men's, Type II, Desert, Large Regular

8405-01-573-8421—Trousers, NWU, Men's, Type II, Desert, Large Short

8405-01-573-8417—Trousers, NWU, Men's, Type II, Desert, Medium XX Long

8405-01-573-8410—Trousers, NWU, Men's, Type II, Desert, Medium X Long

8405-01-573-8404—Trousers, NWU, Men's, Type II, Desert, Medium Long

8405-01-573-9066—Trousers, NWU, Men's, Type II, Desert, XX Large XX Long

8405-01-573-9065—Trousers, NWU, Men's, Type II, Desert, XX Large X Long

8405-01-573-9016—Trousers, NWU, Men's, Type II, Desert, XX Large Long

8405-01-573-9005—Trousers, NWU, Men's, Type II, Desert, XX Large Regular

8405-01-573-8987—Trousers, NWU, Men's, Type II, Desert, X Large XX Long

8405-01-573-8924—Trousers, NWU, Men's, Type II, Desert, X Large X Long

8405-01-573-7890—Trousers, NWU, Men's, Type II, Desert, X Small X Short

8405-01-574-6864—Trousers, NWU, Men's, Type III, Woodland, Medium Regular

8405-01-574-6879—Trousers, NWU, Men's, Type III, Woodland, Medium X Long

8405-01-574-6934—Trousers, NWU, Men's, Type III, Woodland, Large Short

8405-01-574-6948—Trousers, NWU, Men's, Type III, Woodland, Large Long

8405-01-574-7294—Trousers, NWU, Men's, Type III, Woodland, Large XX Long

8405-01-574-7747—Trousers, NWU, Men's, Type III, Woodland, X Large Regular

8405-01-574-8158—Trousers, NWU, Men's, Type III, Woodland, X Large XX Long

8405-01-574-8175—Trousers, NWU, Men's, Type III, Woodland, XX Large Long

8405-01-574-8189—Trousers, NWU, Men's, Type III, Woodland, XX Large XX Long

8405-01-574-6039—Trousers, NWU, Men's, Type III, Woodland, X Small X Short

8405-01-574-6047—Trousers, NWU, Men's, Type III, Woodland, X Small Short

8405-01-574-6588—Trousers, NWU, Men's, Type III, Woodland, X Small Regular

8405-01-574-6593—Trousers, NWU, Men's, Type III, Woodland, X Small Long

8405-01-574-6605—Trousers, NWU, Men's, Type III, Woodland, Small X Short

8405-01-574-6720—Trousers, NWU, Men's, Type III, Woodland, Small X Long

8405-01-574-6836—Trousers, NWU, Men's, Type III, Woodland, Small Long

8405-01-574-6841—Trousers, NWU, Men's, Type III, Woodland, Medium X Short

8405-01-574-6852—Trousers, NWU, Men's, Type III, Woodland, Medium Short

8405-01-574-6868—Trousers, NWU, Men's, Type III, Woodland, Medium Long

8405-01-574-6896—Trousers, NWU, Men's, Type III, Woodland, Medium XX Long

8405-01-574-6944—Trousers, NWU, Men's, Type III, Woodland, Large Regular

8405-01-574-7016—Trousers, NWU, Men's, Type III, Woodland, Large X Long

8405-01-574-7301—Trousers, NWU, Men's, Type III, Woodland, X Large Short

8405-01-574-7750—Trousers, NWU, Men's, Type III, Woodland, X Large Long

8405-01-574-7764—Trousers, NWU, Men's, Type III, Woodland, X Large X Long

8405-01-574-8168—Trousers, NWU, Men's, Type III, Woodland, XX Large Regular

8405-01-574-8184—Trousers, NWU, Men's, Type III, Woodland, XX Large X Long

8405-01-590-7671—Trousers, NWU, Women's, Type II, Desert, 25 X Short

8405-01-590-7672—Trousers, NWU, Women's, Type II, Desert, 25 Short

8405-01-590-7679—Trousers, NWU, Women's, Type II, Desert, 29 Short

8405-01-590-7681—Trousers, NWU, Women's, Type II, Desert, 29 Regular

8405-01-590-7682—Trousers, NWU, Women's, Type II, Desert, 33 X Short

8405-01-590-7699—Trousers, NWU, Women's, Type II, Desert, 33 Short

8405-01-590-7726—Trousers, NWU, Women's, Type II, Desert, 33 Regular

8405-01-590-7747—Trousers, NWU, Women's, Type II, Desert, 37 Short

8405-01-590-7755—Trousers, NWU, Women's, Type II, Desert, 37 Regular

8405-01-590-7795—Trousers, NWU, Women's, Type III, Woodland, 29 X Short

8405-01-590-7771—Trousers, NWU, Women's, Type III, Woodland, 25 X Short

8405-01-590-7775—Trousers, NWU, Women's, Type III, Woodland, 25 Short

8405-01-590-7811—Trousers, NWU, Women's, Type III, Woodland, 29 Short

8405-01-590-7822—Trousers, NWU, Women's, Type III, Woodland, 33 X Short

8405-01-590-7819—Trousers, NWU, Women's, Type III, Woodland, 29 Regular

8405-01-590-7827—Trousers, NWU, Women's, Type III, Woodland, 33 Short

8405-01-590-7832—Trousers, NWU, Women's, Type III, Woodland, 33 Regular

8405-01-590-7837—Trousers, NWU, Women's, Type III, Woodland, 37 Regular

Mandatory Source(s) of Supply: ReadyOne Industries, Inc., El Paso, TX

Contracting Activity: Defense Logistics Agency Troop Support

8405-01-540-1554—Trousers, NWU, Women's, Blue Digital Camouflage, 37 Regular

8405-01-540-1532—Trousers, NWU, Women's, Blue Digital Camouflage, 33 X-Short

8405-01-540-1549—Trousers, NWU, Women's, Blue Digital Camouflage, 37 Short

8405-01-540-1544—Trousers, NWU, Women's, Blue Digital Camouflage, 33 Regular

8405-01-540-1511—Trousers, NWU, Women's, Blue Digital Camouflage, 25 X-Short

8405-01-540-1513—Trousers, NWU, Women's, Blue Digital Camouflage, 25 Short

8405-01-540-1540—Trousers, NWU, Women's, Blue Digital Camouflage, 33 Short

8405-01-540-1527—Trousers, NWU, Women's, Blue Digital Camouflage, 29 Regular

8405-01-540-1522—Trousers, NWU, Women's, Blue Digital Camouflage, 29 Short

8405-01-540-1521—Trousers, NWU, Women's, Blue Digital Camouflage, 29 X-Short

Mandatory Source(s) of Supply: ReadyOne Industries, Inc., El Paso, TX

Contracting Activity: Defense Logistics Agency Troop Support

Services

Service Type: CD-ROM Replication—Program 5588-S Service

Mandatory for: Government Printing Office, US Government Publishing Office, Columbus, OH

Mandatory Source(s) of Supply: Association for the Blind and Visually Impaired—Goodwill Industries of Greater Rochester, Rochester, NY

Contracting Activity: Government Printing Office

Service Type: CD-ROM Replication—Program A890-M Service

Mandatory for: Government Printing Office, 710 North Capitol & H Street NW., Washington, DC

Mandatory Source(s) of Supply: Association for the Blind and Visually Impaired—Goodwill Industries of Greater Rochester, Rochester, NY

Contracting Activity: Government Printing Office

Service Type: CD-ROM Replication—Program 2239S Service

Mandatory for: Government Printing Office, Philadelphia Regional Printing Procurement Office, Southhampton, PA

Mandatory Source(s) of Supply: Association for the Blind and Visually Impaired—Goodwill Industries of Greater Rochester, Rochester, NY

Contracting Activity: Government Printing Office

Service Type: Administrative/General Support Service

Mandatory for: GSA, Southwest Supply Center, 819 Taylor Street, Fort Worth, TX

Mandatory Source(s) of Supply: San Antonio Lighthouse for the Blind, San Antonio, TX; Tarrant County Association for the Blind, Fort Worth, TX; East Texas Lighthouse for the Blind, Tyler, TX

Contracting Activity: General Services Administration, FPDS Agency Coordinator

Service Type: Employment Placement Service

Mandatory for: Defense Logistics Agency: National Human Resource Offices (HRO), Locations—Columbus, OH; Richmond, VA; Battle Creek, MI; Philadelphia, PA; New Cumberland, PA; Fort Belvoir, VA

Mandatory Source(s) of Supply: Virginia Industries for the Blind, Charlottesville, VA

Contracting Activity: Defense Logistics Agency Troop Support

Service Type: Administrative/General Support Service

Mandatory for: GSA, Northeast Distribution Center: Federal Supply Service (3FS), Federal Supply Service (3FS) Burlington, NJ

Mandatory Source(s) of Supply: Bestwork Industries for the Blind, Inc., Cherry Hill, NJ

Contracting Activity: General Services Administration, FPDS Agency Coordinator

Service Type: Mattress Resizing Service

Mandatory for: Defense Supply Center Philadelphia, Philadelphia, PA

Mandatory Source(s) of Supply: LC Industries, Inc., Durham, NC

Contracting Activity: Defense Logistics Agency Troop Support

Service Type: Mailroom Operation Service

Mandatory for: McCoy Federal Building, 100 W Capitol St, Jackson, MS

Mandatory Source(s) of Supply: Mississippi Industries for the Blind, Jackson, MS

Contracting Activity: Department of Housing and Urban Development

Service Type: Order Processing Service

Mandatory for: National Institute of Health, 31 Center Dr, Bethesda, MD

Mandatory Source(s) of Supply: Blind Industries & Services of Maryland, Baltimore, MD

Contracting Activity: Health and Human Services, Department of, Dept of HHS

Service Type: Data Entry/Data Base Management Service

Mandatory for: GSA, Washington: Federal Supply Service Bureau, L'Enfant Plaza, Washington, DC

Mandatory Source(s) of Supply: Virginia Industries for the Blind, Charlottesville, VA

Contracting Activity: General Services Administration, FPDS Agency Coordinator

Service Type: Mailroom Operation Service

Mandatory for: Department of Housing and Urban Development, 600 E Broad St, Richmond, VA

Mandatory Source(s) of Supply: Virginia Industries for the Blind, Charlottesville, VA

Contracting Activity: Health and Human Services, Department of, Dept of HHS

Service Type: Administrative Service

Mandatory for: GSA, Federal Supply Service Bureau: Service Acquisition Center, 1941 Jefferson Davis Highway, Arlington, VA

Mandatory Source(s) of Supply: Virginia Industries for the Blind, Charlottesville, VA

Contracting Activity: General Services Administration, FPDS Agency Coordinator

Service Type: Administrative Service

Mandatory for: GSA, Federal Supply Service Bureau: Fleet Management Division, 200 Independence Ave. SW., Washington, DC

Mandatory Source(s) of Supply: Virginia Industries for the Blind, Charlottesville, VA

Contracting Activity: General Services Administration, FPDS Agency Coordinator

Service Type: Customer Service Representatives Service

Mandatory for: GSA, Springfield: Customer Supply and Industrial Products Center, GSA Franconia Bldg. A, Springfield, VA

Mandatory Source(s) of Supply: Virginia Industries for the Blind, Charlottesville, VA

Contracting Activity: GENERAL SERVICES ADMINISTRATION, FPDS AGENCY COORDINATOR

Service Type: Storage, Handling & Distribution of CLI Promotional Service

Mandatory for: Environmental Protection Agency, 1200 Pennsylvania Avenue NW., Washington, DC

Mandatory Source(s) of Supply: Virginia Industries for the Blind, Charlottesville, VA

Contracting Activity: Environmental Protection Agency, U.S. Environmental Protection Agency

Service Type: Food Service Attendants Service

Mandatory for: CRTC Dining Facility, 1401 Robert B. Miller Jr. Drive, Garden City, GA

Mandatory Source(s) of Supply: Trace, Inc., Boise, ID

Contracting Activity: Dept of the Air Force, FA6643 AF Reserve CMD HQ AFRC PK

The Commission is publishing a correction to its Notice published in the Federal Register on Friday, August 19, 2015 as follows. The correction adds an additional mandatory source of supply, Peckham Vocational Industries, Inc., Lansing, MI, but does not change the date published for public comments to be submitted to the U.S. AbilityOne Commission.

NSN(s)—Product Name(s)

8465-00-NIB-0263—Airborne Rucksack, Modular Lightweight Load-Carrying Equipment (MOLLE), OCP2015

Mandatory Source(s) of Supply: Winston Salem Industries for the Blind, Inc. Winston-Salem, NC

Peckham Vocational Industries, Inc., Lansing, MI

Mandatory Purchase For: 100% of the requirement of the U.S. Army

Contracting Activity: Army Contracting Command—Aberdeen Proving Ground, Natick Contracting Division

Distribution: C-List

Barry S. Lineback,
Director, Business Operations.

[FR Doc. 2016-20535 Filed 8-25-16; 8:45 am]

BILLING CODE 6353-01-P